ENVIRONMENTAL PROTECTION AGENCY

40 CFR Parts 52 and 81

[EPA-R09-OAR-2015-0633; FRL-9939-48-Region 9]

PM10 Plans and Redesignation Request; Truckee Meadows, Nevada; Deletion of TSP Area Designation

AGENCY: Environmental Protection Agency (EPA).

ACTION: Final rule.

SUMMARY: The Environmental Protection Agency (EPA) is taking final action to approve two revisions to the Nevada state implementation plan. The first revision provides a demonstration of implementation of best available control measures (BACM) for control of particulate matter with an aerodynamic diameter less than or equal to a nominal ten micrometers (PM10) within Truckee Meadows. The second revision is a plan that provides for the maintenance of the national ambient air quality standard (NAAQS or “standard”) for PM10 in Truckee Meadows through 2030, includes an emissions inventory consistent with attainment, and establishes motor vehicle emissions budgets. In connection with these approvals, the EPA is taking final action to determine that major stationary sources of PM10 precursors do not contribute significantly to elevated PM10 levels in the area. Also, based in part on the approvals of the BACM demonstration and maintenance plan and determination regarding PM10 precursors, the EPA is taking final action to approve the State of Nevada's request for redesignation of the Truckee Meadows nonattainment area to attainment for the PM10 standard. Lastly, the EPA is taking final action to delete the area designation for Truckee Meadows for the revoked standard for total suspended particulate (TSP). The EPA is taking these actions because the SIP revisions meet the applicable statutory and regulatory requirements for such plans and related motor vehicle emissions budgets and because the area meets the Clean Air Act requirements for redesignation of nonattainment areas to attainment.

DATES: This rule is effective on January 7, 2016.

ADDRESSES: The EPA has established a docket for this action under Docket ID Number EPA-R09-OAR-2015-0633. Generally, documents in the docket for this action are available electronically at www.regulations.gov and in hard copy at the EPA Region IX, 75 Hawthorne Street, San Francisco, California. While all documents in the docket are listed at www.regulations.gov, some information may be publicly available only at the hard copy location (e.g., copyrighted material, large maps), and some may not be publicly available in either location (e.g., confidential business information or “CBI”). To inspect the hard copy materials, please schedule an appointment during normal business hours with the contact listed in the FOR FURTHER INFORMATION CONTACT section.

FOR FURTHER INFORMATION CONTACT: John Ungvarsky, Air Planning Office (AIR-2), U.S. Environmental Protection Agency, Region IX, (415) 972-3963, ungvarsky.john@epa.gov.

SUPPLEMENTARY INFORMATION: Throughout this document, “we,” “us,” or “our” refer to the EPA. This supplementary information section is arranged as follows:

Table of Contents

I. Proposed Actions

II. Public Comments

III. Final Action

IV. Statutory and Executive Order Reviews

I. Proposed Actions

On September 30, 2015 (80 FR 58640), under Clean Air Act (CAA or “Act”) section 110(k)(3), the EPA proposed to approve the BACM-related portion of the submittal from the Nevada Division of Environmental Protection (NDEP) dated August 5, 2002 of Revisions to the Nevada Particulate Matter (PM10) State Implementation Plan for the Truckee Meadows Air Basin (August 2002) (“2002 PM10 Attainment Plan”), and the submittal from NDEP dated November 7, 2014 of the Redesignation Request and Maintenance Plan for the Truckee Meadows 24-Hour PM10 Nonattainment Area (August 28, 2014) (“2014 PM10 Maintenance Plan”) as revisions to the Nevada state implementation plan (SIP). In so doing, we found that the BACM demonstration in the 2002 PM10 Attainment Plan satisfied the BACM requirement in CAA section 189(b)(1)(B) and that the 2014 PM10 Maintenance Plan adequately demonstrates that the area will maintain the PM10 standard for 10 years beyond redesignation. We also found that that major stationary sources of PM10 precursors do not contribute significantly to elevated PM10 levels in the area. In connection with the 2014 PM10 Maintenance Plan, we found that it includes sufficient contingency provisions to promptly correct any violation of the PM10 standard which occurs after redesignation and thereby meets the requirements for maintenance plans under CAA section 175A. We also proposed to approve the motor vehicle emissions budgets (MVEBs) in the 2014 PM10 Maintenance Plan because we found they meet the applicable transportation conformity requirements under 40 CFR 93.118(e).

In our September 30, 2015 proposed rule, under CAA section 107(d)(3)(D), we proposed to grant NDEP's request to redesignate the Truckee Meadows PM10 nonattainment area from “nonattainment” to “attainment” for the PM10 standard. We proposed to do so based on our conclusion that Truckee Meadows has attained the PM10 standard; that the relevant portions of the Nevada SIP are fully approved; that the improvement in air quality is due to permanent and enforceable emissions reductions; that the State of Nevada has met all of the requirements applicable to the Truckee Meadows PM10 nonattainment area with respect to section 110 and part D of the CAA; and, based on our proposed approval as described above, that the 2014 PM10 Maintenance Plan meets the requirements for maintenance plans under section 175A of the CAA; and that, therefore, the State of Nevada has met the criteria for redesignation under CAA section 107(d)(3)(E) for the Truckee Meadows PM10 nonattainment area.

We also proposed to delete the area designation for Truckee Meadows for the revoked NAAQS for TSP.

Please see our September 30, 2015 proposed rule for a detailed discussion of the background for these actions, and the rationale for approval of the 2014 PM10 Maintenance Plan, for granting NDEP's request for redesignation of Truckee Meadows to attainment, and for deleting the TSP designation for Truckee Meadows.

II. Public Comments

Our September 30, 2015 proposed rule provided a 30-day public comment period, which closed on October 30, 2015. We received no comments on our proposal during this period.

III. Final Action

Under CAA section 110(k)(3), and for the reasons set forth in our September 30, 2015 proposed rule, the EPA is taking final action to approve the BACM demonstration submitted by the NDEP on August 5, 2002 as part of the 2002 Truckee Meadows PM10 Attainment Plan and the 2014 Truckee Meadows PM10 Maintenance Plan submitted by the NDEP on November 7, 2014 as revisions of the Nevada SIP. In so doing, the EPA finds that the 2011 attainment inventory in the maintenance plan meets the requirements of CAA section 172(c)(3) and finds that the maintenance demonstration showing how Truckee Meadows will continue to attain the PM10 standard through 2030, and the contingency provisions describing the actions that the Washoe County Health District's Air Quality Management Division (“WCAQMD”) will take in the event of a future monitored violation, meet all applicable requirements for maintenance plans and related contingency provisions in CAA section 175A. The EPA is also approving the following MVEBs in the 2014 PM10 Maintenance Plan because we find they meet the applicable adequacy criteria under 40 CFR 93.118(e):

2014 PM10 Maintenance Plan Motor Vehicle Emissions Budgets
[Average winter day, lbs/day]
Budget year | PM10
2015 | 5,638
2020 | 6,088
2025 | 6,473
2030 | 6,927
Source: 2014 PM10 Maintenance Plan at table 6-6, page 28.

In addition, under CAA section 107(d)(3)(D), we are approving the State's request, which accompanied the submittal of the 2014 PM10 Maintenance Plan, to redesignate the Truckee Meadows PM10 nonattainment area to attainment for the PM10 standard. We are doing so based on our conclusion that the area has met, or will meet as part of this action, all of the criteria for redesignation under CAA section 107(d)(3)(E). More specifically, we find that Truckee Meadows has attained the PM10 standard based on the most recent three-year period (2012-2014) of quality-assured, certified, and complete (or otherwise validated) PM10 data; that relevant portions of the Nevada SIP are fully approved; that the improvement in air quality is due to permanent and enforceable reductions in emissions; that Nevada has met all requirements applicable to the Truckee Meadows PM10 nonattainment area with respect to section 110 and part D of the CAA; and that Truckee Meadows has a fully approved maintenance plan meeting the requirements of CAA section 175A.

In connection with the above approvals and determinations, and as authorized under CAA section 189(e), we are determining that major stationary sources of PM10 precursors do not contribute significantly to PM10 exceedances in the Truckee Meadows nonattainment area.

Lastly, the EPA is taking final action to delete the area designation for Truckee Meadows for the revoked national standard for TSP because the designation is no longer necessary.

IV. Statutory and Executive Order Reviews

Under the CAA, redesignation of an area to attainment and the accompanying approval of a maintenance plan under section 107(d)(3)(E) are actions that affect the status of a geographical area and do not impose any additional regulatory requirements on sources beyond those imposed by State law. Redesignation to attainment does not in and of itself create any new requirements, but rather results in the applicability of requirements contained in the CAA for areas that have been redesignated to attainment. Moreover, the Administrator is required to approve a SIP submission that complies with the provisions of the Act and applicable Federal regulations. 42 U.S.C. 7410(k); 40 CFR 52.02(a). Thus, in reviewing SIP submissions, the EPA's role is to approve State choices, provided that they meet the criteria of the Clean Air Act. Accordingly, these actions merely approve a State plan and redesignation request as meeting Federal requirements and do not impose additional requirements beyond those by State law. For these reasons, these actions:

• Are not a “significant regulatory action” subject to review by the Office of Management and Budget under Executive Order 12866 (58 FR 51735, October 4, 1993) and Executive Order 13563 (76 FR 3821, January 21, 2011);

• Do not impose an information collection burden under the provisions of the Paperwork Reduction Act (44 U.S.C. 3501 et seq.);

• Are certified as not having a significant economic impact on a substantial number of small entities under the Regulatory Flexibility Act (5 U.S.C. 601 et seq.);

• Do not contain any unfunded mandate or significantly or uniquely affect small governments, as described in the Unfunded Mandates Reform Act of 1995 (Pub. L. 104-4);

• Do not have Federalism implications as specified in Executive Order 13132 (64 FR 43255, August 10, 1999);

• Are not an economically significant regulatory action based on health or safety risks subject to Executive Order 13045 (62 FR 19885, April 23, 1997);

• Are not a significant regulatory action subject to Executive Order 13211 (66 FR 28355, May 22, 2001);

• Are not subject to requirements of Section 12(d) of the National Technology Transfer and Advancement Act of 1995 (15 U.S.C. 272 note) because application of those requirements would be inconsistent with the CAA; and

• Do not provide the EPA with the discretionary authority to address disproportionate human health or environmental effects with practical, appropriate, and legally permissible methods under Executive Order 12898 (59 FR 7629, February 16, 1994).

In addition, the State plan that the EPA is approving does not apply on any Indian reservation land or in any other area where the EPA or an Indian tribe has demonstrated that a tribe has jurisdiction. In those areas of Indian country, the rule, as it relates to the maintenance plan, does not have tribal implications and will not impose substantial direct costs on tribal governments or preempt tribal law as specified by Executive Order 13175 (65 FR 67249, November 9, 2000). However, prior to its September 30, 2015 proposal, the EPA offered to consult with representatives of the Reno-Sparks Indian Colony, which consists of members of three Great Basin Tribes—the Paiute, the Shoshone, and the Washo—and which has Indian country within the Truckee Meadows air quality planning area because the Indian country within the Truckee Meadows area is being redesignated to attainment along with State lands. The Reno-Sparks Indian Colony did not respond to the EPA's offer to consult.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by February 8, 2016. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects

40 CFR Part 52

Environmental protection, Air pollution control, Incorporation by reference, Intergovernmental relations, Nitrogen dioxide, Particulate matter, Reporting and recordkeeping requirements, Sulfur dioxide.

40 CFR Part 81

Environmental protection, Air pollution control, National parks, Wilderness areas.

Dated: November 16, 2015.
Jared Blumenfeld,
Regional Administrator, Region IX.

Chapter I, title 40 of the Code of Federal Regulations is amended as follows:

PART 52—APPROVAL AND PROMULGATION OF IMPLEMENTATION PLANS

1. The authority citation for Part 52 continues to read as follows:

Authority: 42 U.S.C. 7401 et seq.

Subpart DD—Nevada

2. Section 52.1470 is amended by adding in paragraph (e), under the table heading “Air Quality Implementation Plan for the State of Nevada” an entry for “Revisions to the Nevada Particulate Matter (PM10) State Implementation Plan for the Truckee Meadows Air Basin (August 2002), Section V; Section VI, Table 4; and Appendix B, Tables 1-2 and 1-3 only” and an entry for “Redesignation Request and Maintenance Plan for the Truckee Meadows 24-Hour PM10 Nonattainment Area (August 28, 2014)” after the entry for “State Implementation Plan for a Basic Program for the Inspection and Maintenance of Motor Vehicles for the Truckee Meadows Planning Area, Nevada (June 1994), including the cover page through page 9, appendix 1, appendix 2 (only the certification of compliance and Nevada attorney general's opinion), and appendices 3, 6, 8, and 10.”

The added text reads as follows:

§ 52.1470 Identification of plan.

* * * * *

(e) * * *

EPA-Approved Nevada Nonregulatory Provisions and Quasi-Regulatory Measures
Name of SIP provision | Applicable geographic or nonattainment area | State submittal date | EPA Approval date | Explanation
Air Quality Implementation Plan for the State of Nevada ¹
* * * * * * *
Revisions to the Nevada Particulate Matter (PM10) State Implementation Plan for the Truckee Meadows Air Basin (August 2002), Section V; Section VI, Table 4; and Appendix B, Tables 1-2 and 1-3 only | Truckee Meadows, Washoe County | 8/5/02 | [INSERT Federal Register CITATION], 12/8/15 | Approval of the portion of the 2002 PM10 Attainment Plan that demonstrates implementation of best available control measures in compliance with section 189(b)(1)(B) of the Clean Air Act.
Redesignation Request and Maintenance Plan for the Truckee Meadows 24-Hour PM10 Nonattainment Area (August 28, 2014) | Truckee Meadows, Washoe County | 11/7/14 | [INSERT Federal Register CITATION], 12/8/15 |
* * * * * * *
* * * * * * *
¹ The organization of this table generally follows from the organization of the State of Nevada's original 1972 SIP, which was divided into 12 sections. Nonattainment and maintenance plans, among other types of plans, are listed under Section 5 (Control Strategy). Lead SIPs and Small Business Stationary Source Technical and Environmental Compliance Assistance SIPs are listed after Section 12 followed by nonregulatory or quasi-regulatory statutory provisions approved into the SIP. Regulatory statutory provisions are listed in 40 CFR 52.1470(c).

§ 52.1476 [Amended]

3. Section 52.1476 is amended by removing and reserving paragraph (a).

PART 81—DESIGNATION OF AREAS FOR AIR QUALITY PLANNING PURPOSES

4. The authority citation for part 81 continues to read as follows:

Authority: 42 U.S.C. 7401 et seq.

Subpart C—Section 107 Attainment Status Designations

5. Section 81.329 is amended by:

a. Removing the table titled “Nevada—TSP”; and

b. Revising in the table under “Nevada—PM-10,” the entry for “Washoe County” to read as follows:

§ 81.329 Nevada.

* * * * *

Nevada—PM-10
Designated area | Designation: Date | Designation: Type | Classification: Date | Classification: Type
Washoe County:
Reno planning area | 1/7/16 | Attainment
Hydrographic area 87 |
* * * * * * *

* * * * *

[FR Doc. 2015-30487 Filed 12-7-15; 8:45 am]

BILLING CODE 6560-50-P